DEPARTMENT OF ENERGY

Federal Energy Regulatory Commission

[Docket No. CP17-74-000]

National Fuel Gas Supply Corporation; Notice of Schedule for Environmental Review of the Line YM28 & Line FM120 Modernization Project

On March 10, 2017, National Fuel Gas Supply Corporation (National Fuel) filed an application in Docket No. CP17-74-000 requesting an authorization and a Certificate of Public Convenience and Necessity pursuant to Sections 7(b) and 7(c) of the Natural Gas Act to abandon, construct, and operate certain natural gas pipeline facilities. The proposed project is known as the Line YM28 & Line FM120 Modernization Project (Project).

On March 24, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA September 29, 2017

90-day Federal Authorization Decision Deadline December 28, 2017

If a schedule change becomes necessary, additional notice will be provided so that the relevant agencies are kept informed of the Project's progress.

Project Description

National Fuel proposes to construct, operate, and abandon various facilities in Cameron, Elk, and McKean Counties, Pennsylvania. According to National Fuel, the Project would enhance the reliability and safety of the National Fuel system, allow for continued transportation services performed by the abandoned facilities, and offer better connectivity for storage and transportation services to National Fuel's backbone transmission pipeline (Line K).

The Project would consist of the following:

• Approximately 14.4 miles of new 12-inch-diameter pipeline installed within existing rights-of-way in McKean County (designated Line KL);

• approximately 5.8 miles of new 6-inch-diameter pipeline installed via insertion into the existing 12-inch-diameter FM120 pipeline in McKean and Elk Counties;

• abandonment in place of approximately 7.7 miles of the existing Line YM28 in McKean County;

• approximately 12.5 miles of Line FM120 removed from service in McKean, Elk, and Cameron Counties;

• removal and relocation of a meter set to the proposed Line KL; and

• new ancillary facilities including an interconnect in McKean County and miscellaneous valve and piping modifications.

Background

On May 16, 2017, the Commission issued a Notice of Intent to Prepare an Environmental Assessment for the Proposed Line YM28 & Line FM120 Modernization Project and Request for Comments on Environmental Issues (NOI). The NOI was sent to affected landowners; federal, state, and local government agencies; elected officials; environmental and public interest groups; Native American tribes; other interested parties; and local libraries and newspapers. In response to the NOI, the Commission received comments from the Alleghany Defense Project and William Belitskus. The primary issues raised by the commenters are improper segmentation of the Project from the Northern Access 2016 Project, cumulative impacts, and impacts from increased shale gas development.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP17-74), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: August 9, 2017.
Nathaniel J. Davis, Sr.,
Deputy Secretary.

[FR Doc. 2017-17263 Filed 8-15-17; 8:45 am]

BILLING CODE 6717-01-P